NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. This is the required notice of a requested permit modification and permit issued.

DATES: October 30, 2016-January 31, 2023.

The permit modification was issued on August 17, 2021.

FOR FURTHER INFORMATION CONTACT: Polly Penhale, ACA Permit Officer, Office of Polar Programs, National Science Foundation, 2415 Eisenhower Avenue, Alexandria, VA 22314; 703-292-7420; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection.

Description of Permit Modification Requested: The Foundation issued a permit (ACA 2017-0023) to Leidos Innovations Group on October 30, 2017. The issued permit allows the applicant entry into Antarctic Specially Protected Areas (ASPAs) in order to support the logistic and scientific objectives of the United States Antarctic Program. ASPAs permitted for entry under this permit include: ASPA 105 Beaufort Island, McMurdo Sound, Ross Sea, ASPA 106 Cape Hallett, Northern Victoria Land, Ross Sea; ASPA 113 Litchfield Island, Arthur Harbor, Anvers Island, Palmer Archipelago; ASPA 121 Cape Royds, Ross Island; ASPA 122 Arrival Heights, Hut Point Peninsula, Ross Island; ASPA 123 Barwick and Balham Valleys, Southern Victoria Land; ASPA 124 Cape Crozier, Ross Island; ASPA 131 Canada Glacier, Lake Fryxell, Taylor Valley, Victoria Land; ASPA 137 North-west White Island, McMurdo Sound; ASPA 138 Linneaus Terrace, Asgard Range, Victoria Land; ASPA 139 Biscoe Point, Anvers Island, Palmer Archipelago; ASPA 154 Botany Bay, Cape Geology, Victoria Land; ASPA 172 Lower Taylor Glacier and Blood Falls, Taylor Valley, McMurdo Dry Valleys, Victoria Land; and ASPA 175 High Altitude Geothermal sites of the Ross Sea region.

The applicant proposes a modification to his permit to extend the expiration of the permit until January 31, 2023.

The Environmental Officer has reviewed the modification request and has determined that the amendment is not a material change to the permit, and it will have a less than a minor or transitory impact.

Erika N. Davis,
Program Specialist, Office of Polar Programs.

[FR Doc. 2021-17942 Filed 8-20-21; 8:45 am]

BILLING CODE 7555-01-P